DEPARTMENT OF HOMELAND SECURITY

Federal Emergency Management Agency

Agency Information Collection Activities: Submission for OMB review; comment request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Claims for National Flood Insurance Program (NFIP).

OMB Number: 1660-0005.

Abstract: The claims forms used for the National Flood Insurance Program (NFIP) are used by policyholders and adjusters to collect the information needed to investigate, document, evaluate, and settle claims against National Flood Insurance Program policies for flood damage to their insured property or qualification for benefits under Increased Cost of Compliance coverage.

Affected Public: Individuals or Households, Business or Other for Profit, Non-for-Profit Institutions, Farms, Federal Government, State, Local or Tribal Government.

Number of Respondents: 5,000.

Estimated Total Annual Burden Hours:

Table 1.—Annual Burden Hours
Forms | No. of respondents (A) | Frequency of responses (B) | Burden hours per respondent (C) | Annual responses (D) | Total annual burden hours (AxBxC)
FEMA Form:
81-40 | 5000 | 1 | 2.50 | 2100 | 5,250
81-41 | 5000 | 1 | 2.50 | 3300 | 8,250
81-41A | 5000 | 1 | 1.00 | 3500 | 3,500
81-42 | 5000 | 1 | 0.08 | 3500 | 280
81-42A | 5000 | 1 | 2.00 | 260 | 520
81-43 | 5000 | 1 | 0.07 | 3500 | 245
81-44 | 5000 | 1 | 0.10 | 1000 | 100
81-57 | 5000 | 1 | 0.07 | 3500 | 245
81-58 | 5000 | 1 | 0.07 | 3500 | 245
81-59 | 5000 | 1 | 0.08 | 2000 | 160
81-63 | 5000 | 1 | 1.00 | 350 | 350
81-96 | 5000 | 1 | 0.50 | 200 | 100
81-98 | 5000 | 1 | 0.42 | 260 | 109
81-109 | 5000 | 1 | 0.25 | 500 | 125
81-110 | 5000 | 1 | 0.25 | 500 | 125
Total | 5,000 | 1 |  | 27,970 | 19,604
(¹) Estimated number of policyholders who will file insurance claims due to flood damage per claims' historical trend.
(²) Estimated number of responses factoring in respondents not filling all forms.

Frequency of Response: On Occasion.

Comments: Interested persons are invited to submit written comments on the proposed information collection to the Office of Information and Regulatory Affairs at OMB, Attention: Desk Officer for the Department of Homeland Security/FEMA at email address kflee@omb.eop.gov or facsimile number (202) 395-7285. Comments must be submitted on or before March 25, 2004. In addition, interested persons may also send comments to FEMA (see contact information below).

FOR FURTHER INFORMATION CONTACT: Requests for additional information or copies of the information collection should be made to Muriel B. Anderson, Chief, Records Management Branch, FEMA at 500 C Street, SW., Room 316, Washington, DC 20472, facsimile number (202) 646-3347, or email address InformationCollections@fema.gov.

Dated: February 18, 2004.
Edward W. Kernan,
Division Director, Information Resources Management Division, Information Technology Services Directorate.

[FR Doc. 04-3895 Filed 2-23-04; 8:45 am]

BILLING CODE 9110-11-P